DEPARTMENT OF DEFENSE

GENERAL SERVICES ADMINISTRATION

NATIONAL AERONAUTICS AND SPACE ADMINISTRATION

48 CFR Part 4

[FAC 2022-06; Item II; Docket No. FAR-2022-0052; Sequence No. 1]

Federal Acquisition Regulation; Technical Amendments; Corrections

AGENCY: Department of Defense (DoD), General Services Administration (GSA), and National Aeronautics and Space Administration (NASA).

ACTION: Final rule; correction.

SUMMARY: DoD, GSA, and NASA published a Technical Amendment, and this document corrects an erroneous instruction in that rule.

DATES: Effective: May 1, 2022.

FOR FURTHER INFORMATION CONTACT: Ms. Lois Mandell, Regulatory Secretariat Division (MVCB), at 202-501-4755 or GSARegSec@gsa.gov. Please cite FAC 2022-06, Technical Amendments.

SUPPLEMENTARY INFORMATION: DoD, GSA, and NASA are correcting an amendatory instruction under part 4, section 4.402.

In FR Doc. 2022-08578 appearing on pages 24843-24844 in the issue of April 26, 2022, make the following correction:

4.402 [Corrected]

1. On page 24844, in the first column, Instruction 2, is corrected to read:

“2. Amend section 4.402 by removing from paragraph (d)(1) the phrase “via the Procurement Integrated Enterprise Environment (PIEE) at https://wawf.eb.mil” and adding “at https://tesseract.cloud.dcsa.mil/nccs” in its place.

William F. Clark,
Director, Office of Government-wide Acquisition Policy, Office of Acquisition Policy, Office of Government-wide Policy.

[FR Doc. 2022-09414 Filed 4-28-22; 4:15 pm]

BILLING CODE 6820-EP-P